OFFICE OF SCIENCE AND TECHNOLOGY POLICY

Public Meeting of the Office of Science and Technology Policy

ACTION: Notice of Public Meeting.

SUMMARY: The Office of Science and Technology Policy will hold a public meeting on July 22, 2015, for interested stakeholders to discuss implementation of the U.S. Government Policy for Institutional Oversight of Life Sciences Dual Use Research of Concern. The purpose of the meeting is to inform and engage stakeholders; collect feedback about resources needed to effectively implement the policy; and discuss stakeholder experiences, challenges, and innovative practices.

DATES: July 22, 2015 from 9:00 a.m. to 4:45 p.m. EST.

ADDRESSES: National Institutes of Health, 9000 Rockville Pike, Bethesda, Maryland 20892, Building 10, Lipsett Auditorium. Meeting information and updates will be posted http://www.phe.gov.

Registration: Due to space limitations, pre-registration for the workshop is required. Registration is on a first-come, first-served basis and subject to space limitations. Registration will open on May 15, 2015. Individuals planning to attend the workshop should register online at www.PHE.gov/DURCworkshop.

FOR FURTHER INFORMATION CONTACT: For information regarding this notice, please email DURC@ostp.gov. Additional information about the workshop, including the agenda, is posted at http://www.phe.gov.

Meeting Accomodations: Individuals requiring special accommodation to access this public meeting should email DURC@ostp.gov. at least ten business days prior to the meeting so that appropriate arrangements can be made.

Stacy L. Murphy,
Operations Manager/Acting Security Officer.

[FR Doc. 2015-11683 Filed 5-13-15; 8:45 am]

BILLING CODE 3270-F5-P